DEPARTMENT OF AGRICULTURE

Forest Service

Allegheny National Forest, Pennsylvania, Brush Creek Project

AGENCY: Forest Service, USDA.

ACTION: Cancellation of notice of intent to prepare an environmental impact statement.

SUMMARY: The Allegheny National Forest is canceling its published notice of intent to prepare an environmental impact statement for the Brush Creek Project on the Marienville Ranger District (FR Document 99-5430, March 4, 1999) published in the Federal Register, Volume 64, No. 43, Friday March 5, 1999, pages 10618-19 and (FR Document 03-5253 filed March 6, 2003) published in the Federal Register, Volume 68, No. 45, Friday March 7, 2003, pages 11033-35. This project has been started and delayed twice. It has now been redesigned and the level of impact is no longer anticipated to require an Environment Impact Statement. An Environmental Assessment will be prepared to determine whether an Environmental Impact Statement is needed.

FOR FURTHER INFORMATION CONTACT: Kevin Treese, District NEPA Coordinator, Marienville Ranger District, HC 2 Box 130, Marienville, PA 16239 or by telephone at 814-927-6628.

Responsible Official

Robert T. Fallon, District Ranger, Marienville Ranger District, HC 2 Box 130, Marienville, PA 16239 or by telephone at 814-927-6628.

Dated: October 26, 2006.
Kathleen S. Morse,
Forest Supervisor.

[FR Doc. 06-9108 Filed 11-7-06; 8:45 am]

BILLING CODE 3410-11-M